DEPARTMENT OF LABOR

Occupational Safety and Health Administration

[Docket No. OSHA-2020-0010]

Maritime Advisory Committee on Occupational Safety and Health (MACOSH): Charter Renewal: Notice of Corrections

AGENCY: Occupational Safety and Health Administration (OSHA), Labor.

ACTION: Notice of corrections to MACOSH charter.

SUMMARY: OSHA is issuing corrections to the renewal and expiration dates of the MACOSH charter.

FOR FURTHER INFORMATION CONTACT: Press inquiries: Mr. Frank Meilinger, Director, OSHA Office of Communications, U.S. Department of Labor; telephone: (202) 693-1999; email: meilinger.francis2@dol.gov.

General information: Ms. Amy Wangdahl, Director, Office of Maritime and Agriculture, Directorate of Standards and Guidance; telephone; (202) 693-2066; email: wangdahl.amy@dol.gov.

SUPPLEMENTARY INFORMATION: On December 8, 2020, OSHA published a notice announcing the renewal of the MACOSH charter (85 FR 79041). That notice incorrectly stated that the Secretary of Labor renewed the MACOSH charter on December 8, 2020, and that the renewed charter would expire on December 8, 2022. This corrections notice is to correct the renewal and expiration dates of the current MACOSH charter. The correct date of the charter's renewal by the Secretary of Labor was December 11, 2020, and the charter will expire on December 11, 2022.

Authority and Signature: Loren Sweatt, Principal Deputy Assistant Secretary of Labor for Occupational Safety and Health, authorized the preparation of this notice pursuant to 29 U.S.C. 653, 655, and 656, Secretary's Order 8-2020 (85 FR 58393; Sept. 18, 2020), and FACA, as amended (5 U.S.C. App. 2), the implementing regulations (41 CFR part 102-3), Department of Labor Manual Series Chapter 1-900 (August 31, 2020), and 29 CFR part 1912.

Signed at Washington, DC, on December 16, 2020.
Loren Sweatt,
Principal Deputy Assistant Secretary of Labor for Occupational Safety and Health.

[FR Doc. 2020-28070 Filed 12-18-20; 8:45 am]

BILLING CODE 4510-26-P